DEPARTMENT OF COMMERCE

International Trade Administration

(A-489-807)

Certain Steel Concrete Reinforcing Bars from Turkey; Notice of Extension of Time Limit for Preliminary Results of Antidumping Duty New Shipper Review

AGENCY: Import Administration, International Trade Administration, Department of Commerce.

EFFECTIVE DATE: March 23, 2007.

FOR FURTHER INFORMATION CONTACT: Irina Itkin or Alice Gibbons, AD/CVD Operations, Office 2, Import Administration, International Trade Administration, U.S. Department of Commerce, 14th Street and Constitution Avenue, NW, Washington, DC 20230; telephone: (202) 482-0656 or (202) 482-0498, respectively

SUPPLEMENTARY INFORMATION:

Background

On October 6, 2006, the Department of Commerce (the Department) received a timely request from Ege Celik Endustrisi Sanayi ve Ticaret A.S., a producer of subject merchandise, and its affiliated export trading company, Ege Dis Ticaret A.S. (collectively “Ege Celik”) in accordance with 19 CFR 351.214(c), for a new shipper review of the antidumping duty order on certain steel concrete reinforcing bars (rebar) from Turkey. On November 7, 2006, the Department found that the request for review with respect to Ege Celik met all of the regulatory requirements set forth in 19 CFR 351.214(b) and initiated an antidumping duty new shipper review covering the period April 1, 2006, through September 30, 2006. See Notice of Initiation of New Shipper Antidumping Duty Review: Certain Steel Concrete Reinforcing Bars from Turkey, 71 FR 66503 (Nov. 15, 2006). The preliminary results are currently due no later than May 6, 2007.

Extension of Time Limit for Preliminary Results

Section 751(a)(2)(B)(iv) of the Tariff Act of 1930, as amended (the Act), and 19 CFR 351.214(i)(1) require the Department to issue the preliminary results of a new shipper review within 180 days after the date on which the new shipper review was initiated and the final results of a review within 90 days after the date on which the preliminary results were issued. The Department may, however, extend the time period for completion of the preliminary results of a new shipper review to 300 days if it determines that the case is extraordinarily complicated. See section 751(a)(2)(B)(iv) of the Act and 19 CFR 351.214(i)(2).

The Department has determined that the review is extraordinarily complicated because it involves a number of issues including certain allegations raised by the domestic interested parties regarding Ege Celik's affiliation with other producers in the Turkish steel industry. Analysis of these issues requires additional time. Accordingly, the Department is extending the time limit for the completion of the preliminary results of the new shipper review of Ege Celik to 300 days. The preliminary results will now be due no later than September 4, 2007, the first business day after September 3, 2007, in accordance with section 751(a)(2)(B)(iv) of the Act and 19 CFR 351.214(i)(2). The final results will, in turn, be due 90 days after the date of issuance of the preliminary results, unless extended.

This notice is published pursuant to sections 751(a)(2)(B)(iv) and 777(i)(1) of the Act.

Dated: March 19, 2007.
Stephen J. Claeys,
Deputy Assistant Secretary for Import Administration.

[FR Doc. E7-5402 Filed 3-22-07; 8:45 am]

BILLING CODE 3510-DS-S